DEPARTMENT OF ENERGY

Federal Energy Regulatory Commission

[Docket Nos. IS18-766-000; IS18-767-000]

Mid-America Pipeline Company, LLC; Seminole Pipeline Company LLC; Notice of Technical Conference

Take notice that a technical conference will be held Thursday, January 17, 2019 at 9:00 a.m. (Eastern Standard Time), in Hearing Room 7, at the offices of the Federal Energy Regulatory Commission, 888 First Street NE, Washington DC 20426.

At the technical conference, the Commission staff and the parties to the proceeding should be prepared to discuss all issues set for technical conference as established in the October 25, 2018 order, Mid-America Pipeline Company, LLC et al., 165 FERC 61,046. All interested persons are permitted to attend.

Commission conferences are accessible under section 508 of the Rehabilitation Act of 1973. For accessibility accommodations please send an email to accessibility@ferc.gov or call toll free 1-866-208-3372 (voice) or 202-502-8659 (TTY); or send a fax to 202-208-2106 with the required accommodations.

For more information about this technical conference please contact Matthew Petersen at (202)-502-6845 or matthew.petersen@ferc.gov.

Dated: December 12, 2018.
Kimberly D. Bose,
Secretary.

[FR Doc. 2018-27309 Filed 12-17-18; 8:45 am]

BILLING CODE 6717-01-P